DEPARTMENT OF HEALTH AND HUMAN SERVICES

Administration for Children and Families

Office of Planning, Research and Evaluation; Grant to the University of Hawaii

AGENCY: Office of Planning, Research and Evaluation, ACF, DHHS.

ACTION: Award announcement.

SUMMARY: Notice is hereby given that a noncompetitive grant award is being made to the University of Hawaii to develop a virtual Data Center for Children and Families that contains the most comprehensive collection of data and information on Hawaii's children and families. As a Congressional setaside, this one-year project is being funded noncompetitively. The cost of this one-year project is $100,000.

FOR FURTHER INFORMATION CONTACT: K.A. Jagannathan, Administration for Children and Families, Office of Planning, Research and Evaluation, 370 L'Enfant Promenade, SW., Washington, DC 20447, Phone: 202-205-4829.

Dated: June 7, 2001.
Howard Rolston,
Director, Office of Planning, Research and Evaluation.

[FR Doc. 01-15032 Filed 6-13-01; 8:45 am]

BILLING CODE 4184-01-M